DEPARTMENT OF ENERGY

Federal Energy Regulatory Commission

[Project No. 2153-012 California]

United Water Conservation District; Notice of Availability of Environmental Assessment

November 28, 2005.

In accordance with the National Environmental Policy Act of 1969, as amended, and Federal Energy Regulatory Commission's (Commission) regulations (18 CFR Part 380), Commission staff reviewed the application for a minor license for the Santa Felicia Hydroelectric Project and prepared this environmental assessment (EA). The project is located on Piru Creek in Ventura County, California. The project occupies 174.5 acres of U.S. land that is administered by the U.S. Department of Agriculture, Forest Service (Forest Service) in the Los Padres and Angeles National Forests.

Specifically, the project licensee, United Water Conservation District, requested Commission approval of the Santa Felicia Project for hydroelectric generation purposes. In the EA, Commission staff analyze the probable environmental effects of relicensing the project and conclude that approval of the project, with appropriate staff-recommended environmental measures, would not constitute a major federal action significantly affecting the quality of the human environment.

Copies of the EA are available for review in Public Reference Room 2-A of the Commission's offices at 888 First Street, NE., Washington, DC. The EA also may be viewed on the Commission's Internet Web site (http://www.ferc.gov) using the “eLibrary” link. Additional information about the project is available from the Commission's Office of External Affairs at (202) 502-6088, or on the Commission's website using the eLibrary link. For assistance with eLibrary, contact FERCOnlineSupport@ferc.gov or call toll-free at (866) 208-3676; for TTY contact (202) 502-8659.

Any comments on the EA should be filed within 45 days of the date of this notice and should be addressed to Magalie R. Salas, Secretary, Federal Energy Regulatory Commission, 888 First Street, NE., Washington, DC 20426. Please reference “Santa Felicia Hydroelectric Project, FERC Project No. 2153-012” on all comments. Comments may be filed electronically via the Internet in lieu of paper. The Commission strongly encourages electronic filings. See 18 CFR 385.2001(a)(1)(iii) and the instructions on the Commission's Web site under the “e-Filing” link.

Please contact Kenneth Hogan by telephone at (202)502-8434 or by e-mail at Kenneth.Hogan@ferc.gov if you have any questions.

Magalie R. Salas,
Secretary.

[FR Doc. E5-6931 Filed 12-6-05; 8:45 am]

BILLING CODE 6717-01-P